FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10056 | Michigan Heritage Bank | Farmington Hills | MI | 12/01/2023
10060 | Westsound Bank | Bremerton | WA | 12/01/2023
10068 | Community Bank of West Georgia | Villa Rica | GA | 12/01/2023
10101 | Community Bank of Arizona | Phoenix | AZ | 12/01/2023
10180 | Community Bank & Trust | Cornelia | GA | 12/01/2023
10366 | First Georgia Banking Company | Franklin | GA | 12/01/2023
10369 | Atlantic Bank & Trust | Charleston | SC | 12/01/2023
10441 | Carolina Federal Savings Bank | Charleston | SC | 12/01/2023
10448 | Montgomery Bank & Trust | Ailey | GA | 12/01/2023
10462 | Gulfsouth Private Bank | Destin | FL | 12/01/2023

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

(Authority: 12 U.S.C. 1819)

Federal Deposit Insurance Corporation.
Dated at Washington, DC, on December 1, 2023.
James P. Sheesley,
Assistant Executive Secretary.

[FR Doc. 2023-26774 Filed 12-5-23; 8:45 am]

BILLING CODE 6714-01-P